DEPARTMENT OF STATE

In the Matter of the Review of the Designation of Asbat al-Ansar, AKA Band of Helpers, AKA Band of Partisans, AKA League of Partisans, AKA League of the Followers, AKA God's Partisans, AKA Gathering of Supporters, AKA Partisan's League, AKA AAA, AKA Esbat al-Ansar, AKA Isbat al-Ansar, AKA Osbat al-Ansar, AKA Usbat al-Ansar, AKA Usbat ul-Ansar, and, Continuity, Irish Republican Army, AKA CIRA, AKA Continuity Army Council, AKA Continuity IRA, AKA Republican Sinn Fein as a Foreign Terrorist Organization Pursuant to Section 219 of the Immigration and Nationality Act, as Amended

Based upon a review of the Administrative Records assembled in these matters pursuant to Section 219(a)(4)(C) of the Immigration and Nationality Act, as amended (8 U.S.C. 1189(a)(4)(C)) (“INA”), and in consultation with the Attorney General and the Secretary of the Treasury, I conclude that the circumstances that were the basis for the 2004 re-designation of the aforementioned organizations as foreign terrorist organizations have not changed in such a manner as to warrant revocation of the designations and that the national security of the United States does not warrant a revocation of the designations.

Therefore, I hereby determine that the designations of the aforementioned organizations as foreign terrorist organizations, pursuant to Section 219 of the INA (8 U.S.C. 1189), shall be maintained.

This determination shall be published in the Federal Register.

Dated: November 27, 2009.
James B. Steinberg,
Deputy Secretary of State, Department of State.

[FR Doc. E9-29225 Filed 12-7-09; 8:45 am]

BILLING CODE 4710-10-P